DEPARTMENT OF COMMERCE

National Oceanic and Atmospheric Administration

[I.D. 022205C]

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Magnuson-Stevens Act (MSA) Reauthorization Committee; its Ecosystems Committee; its Squid, Mackerel, Butterfish Committee; its Executive Committee; its Research Set-Aside Committee; and, its Tilefish Committee will hold public meetings.

DATES: The meetings will begin on Tuesday, March 15, 2005, and continue through Thursday, March 17, 2005. See SUPPLEMENTARY INFORMATION for specific dates and times and meeting agendas.

ADDRESSES: This meeting will be at the Ramada Inn Outer Banks Resort and Conference Center, 1701 S. Virginia Dave Trail, Kill Devil Hills, NC 27948, telephone 252-441-2151.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION:

Tuesday, March 15, 2005

12 noon to 1 p.m., the Magnuson-Stevens Act (MSA) Reauthorization Committee will meet.

1 p.m. to 3 p.m., the Ecosystems Committee will meet.

3 p.m. to 5 p.m., the Squid, Mackerel, Butterfish Committee will meet.

Wednesday, March 16, 2005

8 a.m. to 9 a.m., the Executive Committee will meet.

9 a.m. through 12 noon, the Council will convene and approve the January Council meeting minutes and action items from the January Council meeting, hear organizational and liaison reports, and hear the Executive Director's Report and the status of the Council's Fishery Management Plans (FMP).

1 p.m., the Council will address Amendment 14/Framework 6 to the Summer Flounder, Scup, and Black Sea Bass FMP.

3 p.m. to 4 p.m., the Council will review and discuss Framework 1 to the Dogfish FMP.

4 p.m. to 5 p.m., the Council will review and discuss Amendment 2 to NMFS' Highly Migratory Species (HMS) FMP.

Thursday, March 17, 2005

8 a.m. to 9 a.m., the Research Set-Aside (RSA) Committee will meet.

9 a.m. to 10 a.m., the Tilefish Committee will meet.

10 a.m. to 11 a.m., the Council will convene and conduct a scoping meeting to address the possible need for a Controlled Access System for Atlantic Mackerel.

11 a.m., the Council will receive committee reports, and address any new and/or continuing business.

Meeting Agendas

Tuesday, March 15

The Magnuson-Stevens Act (MSA) Reauthorization Committee will review a list of committee-approved changes to be considered during MSA reauthorization and develop and adopt a motion for Council consideration and action. The Ecosystems Committee will receive an update on the tools available for implementation of ecosystem based fishery management, and will receive a presentation by the Chesapeake Bay Program Office regarding its ecosystem based approach to Chesapeake Bay restoration. The Squid, Mackerel, Butterfish Committee will review the status of Amendment 9 to the FMP, consider and adopt management measures proposed by the technical team, and discuss options for a possible mackerel controlled access system.

Wednesday, March 16

The Executive Committee will review the New England Fishery Management Council's (NEFMC) position regarding joint FMP responsibilities. Following this committee meeting, the Council will convene to approve the January Council meeting minutes and approve action items from the January Council meeting. The Council will also hear organizational and liaison reports, the Executive Director's report and a report on the status of the MAFMC's FMPs. Council will address Amendment 14/Framework 6 to the Summer Flounder, Scup, and Black Sea Bass FMP in light of actions taken by Atlantic States Marine Fisheries Commission's (ASMFC) Summer Flounder, Scup, and Black Sea Bass Board (Board) regarding Addendum 17. The Council will discuss implications of the Board's actions regarding prioritization of Amendment 14 and/or Framework 6, and adopt a modified plan of action for Amendment 14, Framework 6, or both. The Council will review options regarding multi-year setting of specifications for spiny dogfish as proposed in Framework 1 to the Dogfish FMP, and review and comment on the principal measures contained in Amendment 2 to NMFS' FMP for Highly Migratory Species (HMS), i.e., Atlantic tunas, swordfish, and sharks.

Thursday, March 17

The Research Set-Aside Committee will review the 2006 request for proposal (RFP), and review and comment on changes to NOAA's grant process. The Tilefish Committee will review and discuss items to be addressed in a scoping document to be used in the development of Amendment 1. The Council will convene at 10 a.m. and conduct a scoping meeting to address the possible need for a Controlled Access System for Atlantic mackerel; hear committee reports; and, act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Debbie Donnangelo (302-674-2331) at least 5 days prior to the meeting date.

Dated: February 24, 2005.
Peter H. Fricke,
Acting Director, Office of Sustainable Fisheries, National Marine Fisheries Service.

[FR Doc. 05-3943 Filed 2-28-05; 8:45 am]

BILLING CODE 3510-22-S